DEPARTMENT OF VETERANS AFFAIRS

[OMB Control No. 2900-NEW]

Agency Information Collection Activity: Department of Veterans Affairs (VA) Network of Support Pilot Survey #2

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice.

DATES: Written comments and recommendations on the proposed collection of information should be received on or before June 2, 2023.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger.@va.gov. Please refer to “OMB Control No. 2900-NEW” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-NEW” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Executive Order 13571—Streamlining Service Delivery and Improving Customer Service.

Title: Department of Veterans Affairs (VA) Network of Support Pilot Survey #2 (DEC2023).

OMB Control Number: 2900-NEW.

Type of Review: New Collection.

Abstract: The Network of Support Pilot Survey #2 will be administered by VA to participants of the NoS Pilot to assess their satisfaction with the Program and their perception of its utility. The NoS Pilot is a legislatively mandated Pilot Program that invites transitioning service members (TSMs) to opt-in to the Program and then nominate up to 10 close friends and family members to received regular VA-provided information on Veteran benefits and resources. While the legislation focuses on TSMs, separated Veterans may also choose to participate in the Pilot. The intent is to increase the likelihood that new Veterans will see, understand, and take advantage of their earned benefits, thereby easing what can be a difficult transition out of the military. This information collection request (ICR) will be the second of two surveys in the two-year pilot program—the first being NoS Survey #1 (ICR Reference number 202007-2900-004), which was administered in December of 2022. The survey population includes all members of the Pilot—maximum of 3,000 TSMs/Veterans and 30,000 of their nominated NoS members for a total of 33,000. VA will use email with hyperlink to administer the electronic (i.e., Qualtrics) survey, limiting the burden on respondents. The survey will aid in VA's assessment of the effectiveness of the NoS Pilot by: (1) examining the self-reported satisfaction and perceived utility via a series of closed and open-ended questions; (2) analyzing the relationship between participation in the NoS Pilot and certain characteristics of military service (e.g., military occupation specialty [MOS], time in service [TIS], combat exposure) and certain demographics and personal characteristic known or believed to be associated with negative post-transition mental health and/or life outcomes; (3) analyzing the relationship between participation in the NoS Pilot and the use of VA Benefits and resources; (4) identifying areas of improvement for the NoS Program. This assessment will inform a report to the Congress that will recommend whether the Program should be made permanent.

An agency may not conduct or sponsor, and a person is not required to respond to, a collection of information unless it displays a currently valid OMB control number. The Federal Register Notice with a 60-day comment period soliciting comments on this collection of information was published on xx/xx/xx.

Affected Public: Individuals.

Estimated Annual Burden: 75 hours.

Estimated Average Burden per Respondent: 15 minutes.

Frequency of Response: Annual.

Estimated Number of Respondents: 300.

By direction of the Secretary.
Dorothy Glasgow,
VA PRA Clearance Officer, (Alt.), Office of Enterprise and Integration/Data Governance Analytics, Department of Veterans Affairs.

[FR Doc. 2023-06879 Filed 3-31-23; 8:45 am]

BILLING CODE 8320-01-P